DEPARTMENT OF EDUCATION

The Historically Black Colleges and Universities Capital Financing Advisory Board

AGENCY: The Historically Black Colleges and Universities Capital Financing Board, Department of Education.

ACTION: Notice of Meeting.

DATE AND TIME: The meeting will be held from 9 a.m. to 3 p.m., Thursday, May 26, 2005.

LOCATION: The U.S. Department of Education, OPE's Eight Floor Conference Center, 1990 K Street, NW., Washington, DC 20006.

SUMMARY: This notice sets forth the schedule and proposed agenda of an upcoming meeting of the Historically Black Colleges and Universities Capital Financing Advisory Board. The notice also describes the functions of the Board. Notice of this meeting is required by Section 10(a)(2) of the Federal Advisory Committee Act and is intended to notify the public of their opportunity to attend.

FOR FURTHER INFORMATION CONTACT: Steven Pappas, Executive Director, Historically Black Colleges and Universities Capital Financing Program, 1990 K Street, NW., Washington, DC 20006; telephone (202) 502-7555; fax: (202) 502-7862; e-mail: Steven.Pappas@ed.gov.

Individuals who use a telecommunications device for the deaf (TDD) may call the Federal Information Relay Service at 1-800-877-8339, between 8 a.m. and 8 p.m., eastern time, Monday through Friday.

SUPPLEMENTARY INFORMATION: The Historically Black Colleges and Universities Capital Financing Advisory Board (Board) is authorized by Title III, Part D, Section 347 of the Higher Education Act of 1965, as amended in 1998 (20 U.S.C. 1066F). The Board is established within the Department of Education to provide advice and counsel to the Secretary and the designated bonding authority as to the most effective and efficient means of implementing construction financing on historically black college and university campuses and to advise Congress regarding the progress made in implementing the program. Specifically, the Board will provide advice as to the capital needs of Historically Black Colleges and Universities, how those needs can be met through the program, and what additional steps might be taken to improve the operation and implementation of the construction financing program.

The purpose of this meeting is to review current program activities and to make recommendations to the Secretary on the current capital needs of Historically Black Colleges and Universities.

Individuals who will need accommodations for a disability in order to attend the meeting (e.g., interpreting services, assistance listening devices, or materials in alternative format) should notify DaShawn Biddy at (202) 502-7786 no later than May 23, 2005. We will attempt to meet requests for accommodations after this date but cannot guarantee their availability. The meeting site is accessible to individuals with disabilities.

Records are kept of all Board proceedings and are available for public inspection at the Office of the Historically Black Colleges and Universities Capital Financing Program, 1990 K Street, NW., Washington, DC 20006, from the hours of 9 a.m. to 5 p.m., Monday through Friday.

Sally L. Stroup,
Assistant Secretary for Postsecondary Education.

[FR Doc. 05-10154 Filed 5-19-05; 8:45 am]

BILLING CODE 4000-01-M